DEPARTMENT OF LABOR

Employment and Training Administration

[TA-W-57,707]

Guardian Manufacturing Company, a Subsidiary of J.P. Industries, Willard, OH; Notice of Revised Determination on Reconsideration

By letter dated September 23, 2005, a worker requested administrative reconsideration regarding the Department of Labor's Notice of Negative Determination Regarding Eligibility to Apply for Worker Adjustment Assistance, applicable to the workers of the subject firm.

A negative determination regarding the subject facility was signed on September 6, 2005. The Department's notice will soon be published in the Federal Register. The negative determination was based on the findings that, during the relevant period, there were no imports of butyl rubber gloves by the subject company or its customers and no shift of production to a foreign country. The determination also stated that the subject company did not lose a contract to a Canadian company and that the gloves made by the subject company are not like or directly competitive with the gloves made by the Canadian company who won the contract.

To support the request for reconsideration, the petitioner supplied additional information regarding the federal contract won by the Canadian company.

During the reconsideration investigation, the Department contacted the federal contracting entity and the subject company. The contracting entity and a subject company official stated that the subject company had placed a bid for the contract but lost to a Canadian company. The subject company official also stated that butyl rubber gloves of the same thickness perform the same function regardless of the production process.

Conclusion

After careful review of the additional facts obtained on reconsideration, I conclude that increased imports of articles like or directly competitive with the butyl rubber gloves produced at the subject firm, contributed importantly to the declines in sales or production and to the total or partial separation of workers at the subject firm. In accordance with the provisions of the Act, I make the following certification:

All workers of Guardian Manufacturing Company, A Subsidiary of J.P. Industries, Willard, Ohio who became totally or partially separated from employment on or after July 28, 2004 through two years from the date of this certification, are eligible to apply for adjustment assistance under Section 223 of the Trade Act of 1974.

Signed in Washington, DC this 4th day of October 2005.
Elliott S. Kushner,
Certifying Officer, Division of Trade Adjustment Assistance.

[FR Doc. E5-5611 Filed 10-12-05; 8:45 am]

BILLING CODE 4510-30-P